DEPARTMENT OF THE INTERIOR

National Park Service

[NPS-WASO-NRNHL-1212-9138; 2200-3200-665]

National Register of Historic Places; Notification of Pending Nominations and Related Actions

Nominations for the following properties being considered for listing or related actions in the National Register were received by the National Park Service before December 17, 2011. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington DC 20005; or by fax, (202) 371-6447. Written or faxed comments should be submitted by January 26, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Baldwin County

Magnolia Springs Historic District, Roughly along Oak, Spring, Bay, Jessamine, Magnolia, Pine, & Rock Sts., Island, Cedar, & Holly Aves., & Magnolia Spgs. Hyw. Magnolia Springs, 11001046

ARKANSAS

Chicot County

Crenshaw—Burleigh House, 108 N. Main, Dermott, 11001047

Perry County

Perryville Commercial Historic District, Roughly bounded by AR 10, Magnolia, Main, & Plum Sts., Perryville, 11001048

Pope County

Latimore Tourist Home, (Arkansas Highway History and Architecture MPS) 318 S. Houston Ave., Russellville, 11001049

Pulaski County

Capitol—Main Historic District, 500 blk. Main St., 100-200 blks. W. Capitol Ave., 500 blk. Center, & 100-200 blks. W. 6th Sts., Little Rock, 11001050

Sevier County

DeQueen Commercial Historic District, Roughly bounded by W. DeQueen Ave., N. 2nd St., W. Stilwell Ave., & N. 4th Ave., DeQueen, 11001051

Gillham City Jail, Approx. 325 ft. SE. of Hornberg Ave. & Front St., Gillham, 11001052

CALIFORNIA

Sonoma County

Comstock House, 767 Mendocino Ave., Santa Rosa, 11001053

GEORGIA

Coweta County

Oak Hill Cemetery, 96 Jefferson St., Newman, 11001054

DeKalb County

Pearce, William and Minnie, House, 125 Madison Ave., Decatur, 11001055

IOWA

Hardin County

Civilian Conservation Corps—Prisoner of War Recreation Hall, 301 11th Ave., Eldora, 11001056

Winneshiek County

Decorah Municipal Bathhouse and Swimming Pool, 701 College Dr., Decorah, 11001057

MAINE

Oxford County

West Paris Lodge No. 15, I.O.O.F., 221 Main St., West Paris, 11001058

York County

Berwick High School, 45 School St., Berwick, 11001059

MICHIGAN

Calhoun County

Battle Creek Sanitarium (Boundary Increase), 74 N. Washington St., Battle Creek, 11001060

NEW YORK

Montgomery County

Smith, John, Farm, 1059 NY 80, Hallsville, 11001061

Saratoga County

Royal Blockhouse, The, Address Restricted, Moreau, 11001062

OREGON

Multnomah County

Brick House Beautiful, 4005 NE. Davis St., Portland, 1001063

Livingston, C.J., House, 407 NW. Albemarle Terr., Portland, 11001064

Yamhill County

Buchanan Cellars Mill, 855 NE. 5th St., McMinnville, 11001065

PENNSYLVANIA

Allegheny County

Mexican War Streets Historic District (Boundary Increase II), Bounded by W. North Ave. & Reddour, Eloise, & Federal Sts., Pittsburgh, 11001066

UTAH

Salt Lake County

Beck, Reid, House, (Draper, Utah MPS) 12542 S. 900 East, Draper, 11001067

Crossgrove House, (Draper, Utah MPS) 12736 S. Boulder St., Draper, 11001068

Liberty Wells Historic District (Boundary Increase), Bounded by State St., 900 South, 500 East & 1300 South, Salt Lake City, 11001069

VIRGINIA

Rappahannock County

Flint Hill Historic District, Jct. of US 522, Fodderstack, Crest Hill, & Ben Venue Rds., Flint Hill, 11001070

WISCONSIN

Ozaukee County

Milwaukee Falls Lime Company, 2020 Green Bay Rd., Grafton, 11001071

A request to move has been made for the following resource:

VERMONT

Addison County

Monkton Town Hall, N. of Monkton on Monkton Ridge Rd., Monkton, 78000225

A request for removal has been made for the following resources:

ARKANSAS

Conway County

Solgohachia Bridge, Cty. Rd. 67, Solgohachia, 04000498

Washington County

Strengthen the Arm of Liberty Monument, North St., NE of jct. with Park Ave., Fayetteville, 00001264

INDIANA

Lake County

Wynant, Wilbur, House, 600 Fillmore St. Gary, 02001168

Posey County

I.O.O.F. and Barker Buildings, 402-406 Main St.,Vernon, 85002133

[FR Doc. 2012-289 Filed 1-10-12; 8:45 am]

BILLING CODE 4312-51-P